DEPARTMENT OF DEFENSE

Office of the Secretary

[Transmittal No. 24-51]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6523, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-51, Policy Justification, and Sensitivity of Technology.

Dated: September 30, 2025.
Aaron T. Siegel,
Alternate OSD Federal Register Liaison Officer, Department of Defense.

BILLING CODE 6001-FR-P

BILLING CODE 6001-FR-C

Transmittal No. 24-51

Notice of Proposed Issuance of Letter of Offer Pursuant to Section 36(b)(1) of the Arms Export Control Act, as amended

(i) Prospective Purchaser: Government of Canada

(ii) Total Estimated Value:

Major Defense Equipment * | $68.0 million
Other | $28.4 million
TOTAL | $96.4 million

(iii) Description and Quantity or Quantities of Articles or Services under Consideration for Purchase: Foreign Military Sales (FMS) case CN-D-QCZ was below congressional notification threshold at $16.1 million ($11.8 million in MDE) and included a total of two hundred ten (210) KMU-572 Joint Direct Attack Munition (JDAM) tail kits; fifty (50) KMU-556 JDAM tail kits; and twenty-five (25) KMU-557 JDAM tail kits. The Government of Canada has requested the case be amended to include an additional six hundred ninety (690) KMU-572 JDAM tail kits; seventy-five (75) KMU-556 JDAM tail kits; and twenty-five (25) KMU-557 JDAM tail kits. This amendment will cause the case to exceed the notification threshold, and thus notification of the entire program is required. The above notification requirements are combined as follows:

Major Defense Equipment (MDE):

Nine hundred (900) KMU-572 Joint Direct Attack Munition (JDAM) tail kits

One hundred twenty-five (125) KMU-556 JDAM tail kits

Fifty (50) KMU-557 JDAM tail kits

Non-MDE:

Also included are Laser Illuminated Target Detectors; FMU-139 fuzes; weapons support equipment; spare and repair parts, consumables and accessories, and repair and return support; publications and technical documentation; studies and surveys; U.S. Government and contractor engineering, technical, and logistics support services; and other related elements of logistics and program support.

(iv) Military Department: Air Force (CN-D-QCZ)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: May 21, 2024

* as defined in Section 47(6) of the Arms Export Control Act.

POLICY JUSTIFICATION

Canada—Joint Direct Attack Munition (JDAM) Tail Kits

The Government of Canada has requested to buy an additional six hundred ninety (690) KMU-572 Joint Direct Attack Munition (JDAM) tail kits; seventy-five (75) KMU-556 JDAM tail kits; and twenty-five (25) KMU-557 JDAM tail kits that will be added to a previously implemented case whose value was under the congressional notification threshold. The original Foreign Military Sales (FMS) case, valued at $16.1 million ($11.8 million in MDE), included a total of two hundred ten (210) KMU-572 JDAM tail kits; fifty (50) KMU-556 JDAM tail kits; and twenty-five (25) KMU-557 JDAM tail kits. This notification is for a combined total of nine hundred (900) KMU-572 JDAM tail kits; one hundred twenty-five (125) KMU-556 JDAM tail kits; and fifty (50) KMU-557 JDAM tail kits. Also included are Laser Illuminated Target Detectors; FMU-139 fuzes; weapons support equipment; spare and repair parts, consumables and accessories, and repair and return support; publications and technical documentation; studies and surveys; U.S. Government and contractor engineering, technical, and logistics support services; and other related elements of logistics and program support. The estimated total cost is $96.4 million.

This proposed sale will support the foreign policy and national security objectives of the United States by helping to improve the military capability of Canada, a North Atlantic Treaty Organization Ally that is an important force for ensuring political stability and economic progress and is a contributor to military, peacekeeping, and humanitarian operations around the world.

The proposed sale will improve Canada's capability to meet current and future threats by increasing available stores of munitions for its air force. Canada already has the JDAM in its inventory and will have no difficulty absorbing this equipment into its armed forces.

The proposed sale of this equipment and support will not alter the basic military balance in the region.

The principal contractor will be Boeing Corporation, located in St. Louis, MO. There are no known offset agreements proposed in connection with this potential sale.

Implementation of this proposed sale will not require the assignment of any additional U.S. Government or contractor representatives to Canada.

There will be no adverse impact on U.S. defense readiness as a result of this proposed sale.

Transmittal No. 24-51

Notice of Proposed Issuance of Letter of Offer Pursuant to Section 36(b)(1) of the Arms Export Control Act

Annex

Item No. vii

(vii) Sensitivity of Technology:

1. Joint Direct-Attack Munitions (JDAM) consist of a bomb body paired with a warhead-specific tail kit containing an Inertial Navigation System (INS)/Global Positioning System (GPS) guidance capability with Selective Availability Anti-Spoofing Module (SAASM) or M-Code that converts unguided free-fall bombs into accurate, adverse weather “smart” munitions. The JDAM weapon can be delivered from modest standoff ranges at high or low altitudes against a variety of land and surface targets during the day or night. The JDAM can receive target coordinates via preplanned mission data from the delivery aircraft, by onboard aircraft sensors (e.g., forward-looking infrared, radar) during captive carry, or from a third-party source via manual or automated aircrew cockpit entry.

a. The KMU-572 is the tail kit for a GBU-38 (500-pound JDAM) or GBU-54 (500-pound laser JDAM (LJDAM)).

b. The KMU-556 is the tail kit for a GBU-31 (2,000-pound Mk-84 bomb body JDAM).

c. The KMU-557 is the tail kit for a GBU-31 (2,000-pound BLU-109 bomb body JDAM).

2. The DSU-38 consists of a laser spot tracker, a cable connecting the DSU-38 to the basic JDAM guidance set, a cable cover, cable cover tie-down straps, modified tail kit door and wiring harness, and modified navigation and guidance flight software to support both LJDAM and standard JDAM missions. It is the addition of the DSU-38 laser sensor that turns a GBU-38 JDAM into a GBU-54 LJDAM.

3. The FMU-139 Joint Programmable Fuze (JPF) is a multi-delay, multi-arm proximity sensor compatible with general purpose blast, frag, and hardened-target penetrator weapons. The JPF settings are cockpit selectable in flight when used with numerous precision-guided weapons.

4. The highest level of classification of defense articles, components, and services included in this potential sale is SECRET.

5. If a technologically advanced adversary were to obtain knowledge of the specific hardware and software elements, the information could be used to develop countermeasures that might reduce weapon system effectiveness or be used in the development of a system with similar or advanced capabilities.

6. A determination has been made that Canada can provide the same degree of protection for the sensitive technology being released as the U.S. Government. This sale is necessary in furtherance of the U.S. foreign policy and national security objectives outlined in the Policy Justification.

7. All defense articles and services listed in this transmittal are authorized for release and export to the Government of Canada.

[FR Doc. 2025-19372 Filed 10-1-25; 8:45 am]

BILLING CODE 6001-FR-P